DEPARTMENT OF ENERGY

Federal Energy Regulatory Commission

[Docket No. RP96-383-047]

Dominion Transmission, Inc.; Notice of Negotiated Rates

April 9, 2003.

Take notice that on March 31, 2003, Dominion Transmission, Inc. (DTI) tendered for filing as part of its FERC Gas Tariff, Fourth Revised Sheet No. 1402, with an effective date of April 1, 2003.

DTI states that the tariff sheet relates to a negotiated rate transaction between DTI and Rochestar Gas and Electric corporation (RG&E). DTE states that the transaction provides RG&E with firm transportation service and conforms to the forms of service agreement contained in DTI's tariff. DTI states that the term of the agreement is for a primary term of April 1, 2003, through March 31, 2004, and from year to year thereafter.

DTI states that copies of the filing have been served upon DTI's customers, interested state commissions and on all persons on the official service list.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.Comment Date: April 14, 2003.

Magalie R. Salas,
Secretary.

[FR Doc. 03-9249 Filed 4-15-03; 8:45 am]

BILLING CODE 6717-01-P